INTERNATIONAL TRADE COMMISSION

[Investigation No. 332-541]

Trade Barriers That U.S. Small and Medium-sized Enterprises Perceive as Affecting Exports to the European Union; Scheduling of an Additional Public Hearing With Simplified Filing Procedures

AGENCY: United States International Trade Commission.

ACTION: Scheduling of additional public hearing in Moffett Field, CA.

SUMMARY: The Commission has scheduled an additional public hearing in Inv. No. 332-541, Trade Barriers that U.S. Small and Medium-sized Enterprises Perceive as Affecting Exports to the European Union, to be held beginning at 9:30 a.m., September 26, 2013, at the NASA Ames Research Center at Moffett Field, CA. This hearing is in addition to a previously announced public hearing in this investigation to be held at the U.S. International Trade Commission Building, 500 E Street SW., Washington, DC, beginning at 9:30 a.m. on October 8, 2013. Procedures for filing requests to appear have been changed for both hearings to encourage the appearance of small businesses.

This field hearing is being scheduled in conjunction with a field hearing to be held on September 25, 2013, also at the NASA Center in Moffett Field, CA in a second Commission investigation, No. 332-540, Digital Trade in the U.S. and Global Economies, Part 2, requested by the Senate Committee on Finance. Interested persons who wish to present consolidated statements and testimony relevant to both investigations are invited to do so on Wednesday September 25, 2013.

DATES: September 12, 2013: Deadline for filing requests to appear at the Moffett Field, CA hearing.

September 18, 2013: Deadline for filing pre-hearing briefs and statements.

September 26, 2013: Public hearing in Moffett Field, CA.

October 3, 2013: Deadline for filing post-hearing briefs.

October 15, 2013: Deadline for filing all other written submissions.

January 31, 2014: Transmittal of Commission report to the USTR.

ADDRESSES: All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader William Deese (202-205-2626 or william.deese@usitc.gov) or Deputy Project Leader Tamar Khachaturian (202-205-3299 or tamar.khachaturian@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The hearing relates to a report that the Commission is preparing at the request of the United States Trade Representative (USTR) under section 332(g) of the Tariff Act of 1930 (19 U.S.C. 1332(g)). The USTR requested that the Commission prepare a report that catalogs trade barriers that U.S. small and medium-sized enterprises (SMEs) perceive as disproportionately affecting their exports to the EU, compared to those of larger U.S. exporters to the EU. In the request letter, the USTR stated that the United States, in the Transatlantic Trade and Investment Partnership (TTIP) negotiations with the European Union (EU), is seeking to strengthen the participation of SMEs in transatlantic trade and to address trade barriers that may disproportionately impact small businesses. The notice announcing the institution of this investigation and the Washington, DC, hearing on October 8, 2013, was published in the Federal Register of July 30, 2013 (78 FR 45969); the notice is also posted on the Commission's Web site at www.usitc.gov.

The Commission is particularly interested in receiving information and views from SMEs and related organizations about trade-related barriers faced by U.S. SMEs in exporting goods or services to the EU and about EU trade barriers by economic sector or by special issue. (For purposes of this report, an SME is defined as a firm with fewer than 500 U.S.-based employees.) The Commission is also interested in receiving information and views about specific trade barriers in individual EU countries; the relative effect on exports of different EU trade barriers; and ways in which SME participation in transatlantic trade might be strengthened.

Public Hearing: The additional hearing will be held at the NASA Ames Conference Center/NASA Research Park, Building 152, Room 171, 200 Dailey Road, Moffett Field, CA, beginning at 9:30 a.m. on September 26, 2013. Requests to appear at the public hearing should be filed with the Secretary, no later than 5:15 p.m. (eastern daylight time), September 18, 2013, in accordance with the requirements in the “Requests to Appear” section below. All pre-hearing briefs and statements should be filed no later than 5:15 p.m. (eastern daylight time), September 18, 2013; and all post-hearing briefs and statements should be filed not later than 5:15 p.m., October 3, 2013. In the event that, as of the close of business on September 12, 2013, no witnesses are scheduled to appear at the hearing, the hearing will be canceled. Any person interested in attending the hearing as an observer or nonparticipant should contact the Office of the Secretary at 202-205-2000 after September 12, 2013, for information concerning whether the hearing will be held.

Requests To Appear: Requests to appear at the Moffett Field, CA, and Washington, DC, hearings may be in the form of a letter, which should be on company or other appropriate stationery. Requests should identify the name, title, and company or other organizational affiliation (if any), address, telephone number, email address, and industry or main line of business of the company, if any, of the person signing the request letter and of the persons who plan to appear at one or both hearings. Requests to appear may be made by mail or delivered in person to the Commission's Office of the Secretary (see ADDRESSES), or may be filed by email sent to SMEHearing@usitc.gov. The Commission does not accept requests filed by fax.

Written Submissions: In lieu of or in addition to participating in the hearing, interested parties are invited to file written submissions concerning this investigation. Such submissions should be addressed to the secretary, and should be received no later than 5:15 p.m., October 15, 2013. All written submissions must conform to the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

In the request letter, the USTR stated that the Office of the USTR intends to make the Commission's report available to the public in their entirety, and asked that the Commission not include any confidential business information or national security classified information in the report that the Commission sends to the USTR. Any confidential business information received by the Commission in this investigation and used in preparing this report will not be published in a manner that would reveal the operations of the firm supplying the information.

By order of the Commission.
Issued: August 16, 2013
Lisa R. Barton,
Acting Secretary to the Commission.

[FR Doc. 2013-20388 Filed 8-20-13; 8:45 am]

BILLING CODE 7020-02-P